DEPARTMENT OF ENERGY

Federal Energy Regulatory Commission

[Docket No. CP01-145-000]

Otay Mesa Generating Company, LLC; Notice of Application

April 13, 2001.

Take notice that on April 6, 2001, Otay Mesa Generating Company, LLC (Otay Mesa), 7500 Old Georgetown Road, Suite 1300, Bethesda, Maryland 20814-6161, pursuant to section 3 of the Natural Gas Act (NGA) and Part 153 of the Commission's regulations, filed an application in Docket No. CP01-145-000, for a Presidential Permit and for authority to site, construct, operate, and maintain natural gas facilities, consisting of approximately 340 feet of 16-inch diameter pipeline, at the border of the United States and Mexico in San Diego County, California. The facilities will be used to import up to 110 MMcf per day of natural gas, all as more fully set forth in the application which is on file with the Commission and open to public inspection. This filing may also be viewed on the web at http://www.ferc.fed.us/online/rims.htm (call 202-208-2222 for assistance). The name, address, and telephone/fax numbers of the applicant's representative, to whom correspondence and communications concerning this application should be addressed is: Sharon Segner, Otay Mesa Generating Company, LLC, 1100 Louisiana, Floor 16, Houston, Texas 77002, (713) 371-6010 (Phone) or (713) 371-7215 (Fax).

Otay Mesa is owned by Otay Mesa Corporation and PG&E Generating Energy Group, LLC. Otay Mesa states that it has proposed to construct a natural gas-fired electric power generating plant in San Diego County, California, that will be connected to its proposed border crossing facilities by a 1.5 mile long pipeline. Otay Mesa hopes to receive final approval for the power plant from the California Energy Commission on April 18, 2001.

It is stated, that the border crossing facilities will be used solely for private transportation service to supply Otay Mesa's proposed electric generating plant. According to Otay Mesa, its California Energy Commission permit will license, for the power plant, interconnections with the facilities of both Transportation de Gas Natural de Baja California (TGN), at the United States/Mexico border, and San Diego Gas and Electric Company.

The gas that is transported by TGN to Otay Mesa's border crossing facilities is produced in the United States (in the San Juan and Permian Basins) and would be transported by, among others, North Baja Pipeline, LLC (NBP) to the United States/Mexico border, and then further transported by Gasducto Bajanorte, S. de R.L. de C.V. (GBN) from the border to an interconnect with TGN's system near Tijuana, Mexico. NBP has an application pending before the Commission, in Docket Nos. CP01-22-000, et al., requesting authorization to construct and operate the required pipeline facilities. GBN received a permit to construct and operate the Mexican portion of the facilities from the Mexican Comison Reguladoro De Energia on December 15, 2000, in Docket No. S27-G-624-0. Otay Mesa states that it will file an application for Department of Energy/Office of Fossil Energy (DOE/FE) authorization to import up to 110 MMcf per day from Mexico or will purchase the natural gas on the U.S. side of the border from an entity that has such DOE/FE import authorization.

Otay Mesa has not yet entered into a construction and operation agreement and, therefore, requests waiver of section 153.8(4) of the Commission's regulations which require the filing of such agreement as Exhibit D of the application. Otay Mesa explains that it desired to have its request pending before the Commission at the earliest possible date so that there will be no unnecessary delays in providing for the supply of natural gas to its proposed power plant, and states that Otay Mesa will submit the construction and operating agreement to the Commission at the earliest possible date. Otay Mesa expects to begin construction on the proposed border crossing facilities in late 2002 or early 2003 and that construction will take 30 days to complete.

Any person desiring to be heard or to make any protest with reference to said application should on or before May 4, 2001, file with the Federal Energy Regulatory Commission, Washington, DC 20426, a petition to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a petition to intervene in accordance with the Commission's rules. Comments, protests and interventions may be filed electronically via the internet in lieu of paper. See, 18 CFR 385.2001(a)(1)(iii) and the instructions on the Commission's web site at http://www.ferc.fed.us/efi/doorbell.htm.

Take further notice that, pursuant to the authority contained in and subject to the jurisdiction conferred upon the Federal Energy Regulatory Commission by Sections 3 and 15 of the Natural Gas Act and the Commission's Rules of Practice and Procedure, a hearing will be held without further notice before the Commission or its designee on this application if no petition to intervene is filed within the time required herein, if the Commission on its own review of the matter finds that a grant of the certificate is required by the public convenience and necessity. If a petition for leave is timely filed, or if the Commission on its own motion believes that a formal hearing is required, further notice of such hearing will be duly given. Under the procedure provided for, unless otherwise advised, it will be unnecessary for Otay Mesa to appear or be represented at the hearing.

David P. Boergers,
Secretary.

[FR Doc. 01-9706 Filed 4-18-01; 8:45 am]

BILLING CODE 6717-01-M